DEPARTMENT OF COMMERCE

National Oceanic and Atmospheric Administration

[RTID 0648-XB131]

Takes of Marine Mammals Incidental to Specified Activities; Taking Marine Mammals Incidental to Site Characterization Surveys Off the Coast of Massachusetts; Correction

AGENCY: National Marine Fisheries Service (NMFS), National Oceanic and Atmospheric Administration (NOAA), Commerce.

ACTION: Notice; modified proposal of an incidental harassment authorization; request for comments on modified proposed authorization and possible renewal; correction.

SUMMARY: This document contains corrections to the DATES section of the notice of modified proposed incidental harassment authorization (IHA) for take of marine mammals incidental to marine site characterization surveys in coastal waters of Massachusetts published in the Federal Register on May 20, 2021. This action is necessary to notify the public of the end date of the public comment period, which was inadvertently omitted from the notice. This document corrects that omission; all other information is unchanged.

ADDRESSES: Comments should be addressed to Jolie Harrison, Chief, Permits and Conservation Division, Office of Protected Resources, National Marine Fisheries Service. Written comments should be submitted via email to ITP.Pauline@noaa.gov.

Instructions: NMFS is not responsible for comments sent by any other method, to any other address or individual, or received after the end of the comment period. Comments, including all attachments, must not exceed a 25-megabyte file size. All comments received are a part of the public record and will generally be posted online at www.fisheries.noaa.gov/permit/incidental-take-authorizations-under-marine-mammal-protection-act without change. All personal identifying information (e.g., name, address) voluntarily submitted by the commenter may be publicly accessible. Do not submit confidential business information or otherwise sensitive or protected information.

FOR FURTHER INFORMATION CONTACT: Robert Pauline, Office of Protected Resources, NMFS, (301) 427-8401.

SUPPLEMENTARY INFORMATION:

Background

NMFS published a notice of a modified proposed IHA in the Federal Register on May 20, 2021 (86 FR 27393), based on a request from Mayflower Wind Energy LLC (Mayflower) for authorization to take marine mammals incidental to site characterization surveys off the coast of Massachusetts in the area of the Commercial Lease of Submerged Lands for Renewable Energy Development on the Outer Continental Shelf (OCS-A 0521) and along potential submarine cable routes to landfall locations at Falmouth, Massachusetts and near Narragansett Bay. The information in the notice of modified proposed IHA is not repeated here. As published, the notice of modified proposed IHA (86 FR 27393; May 20, 2021) omitted the DATES section including the closing date of the comment period.

Correction

In the Federal Register of May 20, 2021, in FR Doc. 2021-10551, on page 27394, in the first column, correct the DATES section to read as follows:

DATES: Comments and information must be received no later than June 21, 2021.

The closing date for public comments regarding the notice of modified proposed IHA published on May 20, 2021 (86 FR 27393) in the Federal Register is June 21, 2021.

Dated: June 2, 2021.
Catherine Marzin,
Acting Director, Office of Protected Resources, National Marine Fisheries Service.

[FR Doc. 2021-11910 Filed 6-7-21; 8:45 am]

BILLING CODE 3510-22-P